FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011117-055.

Title: United States/Australasia Discussion Agreement.

Parties: ANL Singapore Pte Ltd.; CMA-CGM.; Hamburg-Süd; and Mediterranean Shipping Company S.A.

Filing Party: Wayne R. Rohde, Esq.; Cozen O'Connor; 1627 I Street NW., Suite 1100; Washington, DC 20006-4007.

Synopsis: The amendment reflects the resignations of Compagnie Maritime Marfret S.A. and Hapag-Lloyd A.G., effective June 6, 2016 and June 11, 2016, respectively.

Agreement No.: 012417.

Title: CMA CGM/APL West Med-USEC Space Charter Agreement.

Parties: CMA CGM S.A.; APL Co. Pte Ltd; American President Lines, Ltd.

Filing Party: Draughn B. Arbona, Esq; CMA CGM (America) LLC; 5701 Lake Wright Drive; Norfolk, VA 23502.

Synopsis: The agreement authorizes CMA CGM to charter space to APL in the trade between the U.S. East Coast on the one hand, and Italy, France, and Spain on the other hand.

By Order of the Federal Maritime Commission.
Dated: June 10, 2016.
Rachel E. Dickon,
Secretary.

[FR Doc. 2016-14153 Filed 6-14-16; 8:45 am]

BILLING CODE 6731-AA-P